DEPARTMENT OF HOMELAND SECURITY

Coast Guard

33 CFR Parts 1, 26, 80, 81, 83, 89, 100, 117, 151, 154, 155, 156, 161, and 164

46 CFR Parts 2, 10, 11, 12, 15, 16, 26, 28, and 162

[Docket No. USCG-2018-0874]

Navigation and Navigable Waters, and Shipping; Technical, Organizational, and Conforming Amendments

AGENCY: Coast Guard, DHS.

ACTION: Final rule.

SUMMARY: This final rule makes non-substantive technical, organizational, and conforming amendments to existing Coast Guard regulations. This rule will have no substantive effect on the regulated public.

DATES: This final rule is effective June 28, 2019.

ADDRESSES: Documents mentioned in this preamble as being available in the docket are part of docket USCG-2018-0874, which is available at https://www.regulations.gov.

FOR FURTHER INFORMATION CONTACT: For information about this document call or email Kate Sergent, Coast Guard; telephone 202-372-3860, email kate.e.sergent@uscg.mil.

SUPPLEMENTARY INFORMATION:

Table of Contents for Preamble

I. Abbreviations

II. Regulatory History

III. Basis and Purpose

IV. Discussion of the Rule

V. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

CFR Code of Federal Regulations

COLREGS International Regulations for Preventing Collisions at Sea, 1972

DHS Department of Homeland Security

FCC Federal Communications Commission

FR Federal Register

GT Gross tonnage

IMO International Maritime Organization

MMC Merchant mariner credential

OMB Office of Management and Budget

§ Section

STEP Shipboard Technology Evaluation Program

SLRs Special local regulations

STCW Seafarers' Training, Certification and Watchkeeping

U.S.C. United States Code

II. Regulatory History

We did not publish a notice of proposed rulemaking for this rule. Under Title 5 of the United States Code (U.S.C.), Section 553(b)(A), the Coast Guard finds that this final rule is exempt from notice and public comment rulemaking requirements because these changes involve rules of agency organization, procedure, or practice. In addition, the Coast Guard finds that notice and comment procedures are unnecessary for this final rule under 5 U.S.C. 553(b)(B), as this rule consists of only technical and editorial corrections and these changes will have no substantive effect on the public. Under 5 U.S.C. 553(d)(3), the Coast Guard finds that, for the same reasons, good cause exists for making this final rule effective upon publication in the Federal Register.

III. Basis and Purpose

This final rule, which becomes effective on June 28, 2019, makes technical and editorial corrections throughout titles 33 and 46 of the Code of Federal Regulations (CFR). These changes are necessary to correct errors, change addresses, and make other non-substantive amendments that improve the clarity of the CFR. This rule does not create or change any substantive requirements.

This final rule is issued under the authority of 5 U.S.C. 552(a) and 553; 14 U.S.C. 102 and 503; 33 U.S.C. 151, 499, 521, 2071, and 2735; 46 U.S.C. 2103, 3306, 3703, 5104, 6101, 7701, 70001, 70034, 70041(a), and 70114; and Department of Homeland Security Delegation No. 0170.1.

IV. Discussion of the Rule

The Coast Guard periodically issues technical, organizational, and conforming amendments to existing regulations in titles 33 and 46 of the CFR. These “technical amendments” provide the public with more accurate and current regulatory information, but do not change the effect on the public of any Coast Guard regulations.

Technical Amendments to Title 33 of the CFR

This rule amends § 1.08-1(a)(11) by replacing an incorrect cross-reference to “33 CFR 88.05(h)” with the correct citation “33 CFR 83.01(g),” which contains the requirement that certain vessels carry a copy of the inland navigation rules. The 2014 “Changes to the Inland Navigation Rules” (79 FR 37898, July 2, 2014) amended § 88.05 so that it contains the rules for lights on law enforcement vessels. The 2014 “Changes to Inland Navigation Rules” also moved the “Copy of the Rules” requirement previously housed in § 88.05 to § 83.01(g), which states that operators of self-propelled vessels 12 meters or more in length must carry on board a copy of the inland navigation rules in part 83.

This rule corrects the authority citation for part 26 and also revises § 26.08(a) to reflect the organizational change in office name from Assistant Commandant for “Marine Safety, Security and Environmental Protection” to Assistant Commandant for “Prevention Policy.”

In § 80.750(b) and (f), this rule removes references to La Costa Test Pile North Light and Big Sarasota Pass Light 14, respectively, because these lights no longer exist. The Coast Guard replaces these references with exact coordinates to clarify the demarcation lines for the 72 International Regulations for Preventing Collisions at Sea (COLREGS) navigation rules.

The changes in § 80.753(a) and (d) include edits to the descriptions of the landmarks used in the COLREGS demarcation lines. These changes will align this section's descriptions of the lines with the rest of the section's descriptions by describing each demarcation as a line heading from south to north. In addition, the edits to this section clarify the points of demarcation by adding descriptive words like “jetty.” The Coast Guard also replaces a reference to “Light 7” in § 80.753(d) to “Light 3” because Light 7 was renamed Light 3. The final change in § 80.753(d) replaces the demarcation point, the Anclote River Cut B Range Rear Light, with the exact coordinates of that location on Anclote Key because the Anclote River Cut B Range Rear Light no longer exists for our demarcation purposes.

This rule deletes the demarcation points in § 80.810(c) and (d) because a National Oceanic Atmospheric Administration cartographer notified the Coast Guard that the “northernmost extremity” on Crooked Island and Shell Island no longer exist due to water movement over the land. The water moved over the landmasses so that the COLREGS waters in this location are closed off from the inland waters. The Coast Guard is deleting the references to these two demarcation points that no longer exist to provide accurate information to the public and to conform the regulations to fit the geography of the area as it currently exists.

The changes in §§ 81.3, 81.5(a), 81.9, 89.3, 89.5, and 89.9 replace all references to the “Marine Safety Division” to reflect an organizational change to its current office name, which is “Prevention Division.”

In § 83.24(h), this rule adds “shapes” to the inland navigation rule for towing vessels to align the regulations with the 72 COLREGS, which is implemented in this part. This section refers the reader to § 83.24(e) and (g) for certain light and shape display requirements and both referenced paragraphs include light and shape display requirements for towing vessels to indicate the presence of a vessel or object. The 72 COLREGS allow exceptions for both lights and shapes display requirements when compliance with the rules is impossible, and this section implements that exception. Although we inadvertently omitted references to the shapes, we have always applied these regulations to both lights and shapes.

In §§ 83.26(f)(1), and 83.27(d)(iv)(1)(B) and (2)(A), this rule replaces “all around” with “all round” to match the spelling to the 72 COLREGS, which are implemented in these sections.

In § 83.26(f)(ii)(2)(B), this rule updates an incorrect cross-reference to the appropriate paragraph. The cross-reference this rule updates is for the light signal that fishing vessels must display when shooting or hauling their nets, or when their nets come upon an obstruction. These lighting requirements are listed in paragraph (f)(ii)(1) of this section, instead of paragraph (a).

This rule amends § 89.27(a) and (b) and the header to § 89.27 by updating all cross-references to “Inland Rule 24(i)” to the correct citation, “Inland Rule 24(j).” This edit comes as a result of the 2017 Technical Amendments final rule (82 FR 35073, 35080, July 28, 2017) that changed the citation in 33 CFR 83.24 (Inland Rule 24).

This rule adds subparts A through J to 33 CFR part 100 to organize the permanent and temporary special local regulations (SLRs) by their Coast Guard district. We are adding subparts with the districts' titles to improve the organization and readability of this section. When the Coast Guard issues a permanent SLR within District 17 in 33 CFR part 100, we will add sections to subpart J for District 17 at that time. The following table shows the organizational changes:

Table 1—New CFR Part 100 Subpart Organization
CFR subpart | SLR designation
A | General.
B | 1st district.
C | 5th district.
D | 7th district.
E | 8th district.
F | 9th district.
G | 11th district.
H | 13th district.
I | 14th district.
J | 17th district.

Previously, the SLRs' section number was the mechanism that organized the SLRs in part 100 by district number. However, part 100 did not explicitly call attention to the fact that the section number correlated with the Coast Guard district, making it an ineffective organization tool for the public to use. In the “General” provisions subpart, this rule also adds § 100.35(d), which contains a description of how 33 CFR part 100 is organized by district.

This rule corrects the names of the drawbridges in §§ 117.149 and 117.163(b) from 3rd Street and 4th Street drawbridges to Third Street and Fourth Street drawbridges.

In § 117.175(b), we put the word “counties” in lowercase to fix a capitalization errors.

Also in § 117.193, we change the words “highway” and “bicycle” to lowercase to fix capitalization errors.

In § 117.523, this rule corrects the name and mile marker for the Barter's Island Bridge on the Back River in Maine from “Maine Department of Transportation highway bridge, mile 4.6” to “Barter's Island Bridge, mile 2.0.”

This rule assigns the content that was in § 117.622 into § 117.621. This rule also reassigns content that was in § 117.621 into § 117.622 and renames the section header of § 117.622 to “Weymouth Fore River.” These revisions restore alphabetical order to part 117 after “Fore River” was renamed as “Weymouth Fore River.”

This rule amends § 117.755 by updating the bridge name from “Monmouth Country highway bridge” to its new name “Sea Bright Bridge.” In § 117.791(c) this rule updates the name of the “CSX Transportation bridge” to its new name, “Livingston Ave (Amtrak) Bridge.” In § 117.791(d) this rule updates the name of the “state highway bridge” to its new name, “Troy-Menands Bridge.” In § 117.791(e), this rule updates the name of the “highway bridge” to its new name, “Troy-Green Bridge.”

In § 151.1021(b)(1), this rule updates the title of the Assistant Commandant for Prevention Policy because the text omitted “Policy” from the command's name.

This rule revises §§ 151.1513 and 151.2036 by providing an email address to accommodate email delivery of extension requests for ballast water management systems under those sections.

This rule amends § 151.2005 by removing the definition of “International Maritime Organization (IMO) ballast water management guidelines” because it is no longer used in part 151 nor in practice. The Coast Guard stopped using the IMO ballast water standards because the standards were replaced by the International Convention for the Control and Management of Ships' Ballast Water and Sediments on September 8, 2017, and the United States is not a party to the Convention. In order to avoid confusion and conform with the updated standards, we are deleting the IMO ballast water management guidelines definition in this part.

This rule updates a Coast Guard website address in § 151.2005, within the definition of Shipboard Technology Evaluation Program (STEP), where the public can view the STEP guidance and applications.

In § 151.2026(b) we added an email address as an alternate way for the public to submit requests for determinations to the Marine Safety Center.

In § 151.2065, this rule updates the office names for Environmental Standards Division from “CG-05224” to “(CG-OES-3)” and also updates the title of the Assistant Commandant for Prevention Policy (CG-5P) from its previous title, “Assistant Commandant for Maritime Safety, Security, and Stewardship (CG-5)” to conform with organizational name changes.

This rule revises the definition sections in both §§ 154.1020 and 155.1020 by replacing the definition for “Dispersant Mission Planner 2 or (DMP2)” with the definition for “Estimated Dispersant System Potential Calculator (EDSP).” The Estimated Dispersant System Potential Calculator was developed as revision 1 of the DMP2 because the DMP2 programming environment was outdated and was no longer supported on any system. DMP2 is no longer available for use, and the EDSP is the current program used by the industry. The basic algorithms used in the DMP2 are the same in the EDSP, so there is no change in the public's expectations or requirements. We are updating these definition sections to conform to the technology currently used by industry and accepted by the Coast Guard. For the same reasons, this rule replaces all references to “Dispersant Mission Planner 2” or “DMP2” with “Estimated Dispersant System Potential Calculator” and “EDSP” in § 154.1045(i)(2)(ii); Appendix C to part 154, paragraphs 8.2.1.2 and 8.2.3(i); § 155.1050; and Appendix B to part 155, paragraphs 8.2.1.2 and 8.2.3(i).

In § 156.210(b), this rule replaces the out-of-date office contact “CG-5” with “CG-ENG” because CG-ENG is the correct office for the public to submit requests to use lighter hazardous materials other than oil.

In § 161.2, titled “Definitions”, this rule inserts the definitions for “Center” and “Published” that were previously located in a second separate definitions section in § 161.17. We are moving these two definitions into § 161.2 so that all the definitions for this part can be found in the same place. The definitions are unchanged. The Coast Guard also corrects a capitalization error in § 161.2.

In §§ 161.2, 161.12, Note 6 to Table 1 to § 161.12(c), Table 161.70(d), and Table 161.70(f), the Coast Guard is replacing all references to “sector” with “zone” to avoid confusion with sector commands and conform with the current practice to call these areas “zones”. In addition, in Table 1 to § 161.12, this rule replaces the reference to the “Strait of Juan de Fuca” with “Salish Sea,” which is the new name for that body of water.

In § 161.4, this rule provides a web address to access the Vessel Traffic Services User Manual.

In § 161.5(b) we remove the text “Vessel Traffic Center” and leave only the acronym, “VTC” because we moved the definition and initial introduction to the acronym to § 161.2, which precedes this reference.

This rule corrects a typographical error in line 12 of Table 1 to § 161.12(c) by removing the apostrophe in “St. Mary's.” The name of the river, St. Marys River, has been without a possessive apostrophe since 1982.

The Coast Guard deletes § 161.17 and moves the section's definitions for “Center” and “Published” to § 161.2 where all the other definitions applicable to this part are listed.

The Coast Guard is correcting an erroneous edit made to § 161.55(c)(3) by a technical and conforming amendment final rule in 2014 (79 FR 38421). The 2014 technical amendment final rule unintentionally changed the type of vessel exempted from the regulations from vessels of less than 100 meters to vessels greater than 100 meters in length, while saying the “changes are editorial and do not alter the VTS Special Area Operating Requirements prescribed in 33 CFR 161.55(c)” (79 FR 38424). This provision's original purpose was, and is, to exempt smaller vessels from the regulations intended to help the larger commercial vessel industry safely navigate the narrow and tricky waters of Puget Sound. It was never the Coast Guard's intent to exempt larger vessels from the precautions put in place for their benefit. Therefore, the Coast Guard is revising the text in § 161.55(c)(3) from exempting vessels greater than 100 meters in length to how it was written before the 2014 Technical Amendment final rule, in order to exempt only vessels of less than 100 meters from certain requirements in that part. The inaccurately edited rule has not been enforced according to how it was rewritten. Instead, the Coast Guard acknowledged the mistake and continued its exemptions for vessels less than 100 meters only. This clarifying technical amendment will not result in a change in expectations or obligations based on how § 161.55(c)(3) has always been enforced.

In § 164.72(b)(2)(ii)(C), the text “the ACOE or” is removed as a source for river current tables because the United States Army Corps of Engineers (ACOE) no longer issues river current tables. The alternate river current issuing authority already listed in this section is “a river authority.” We are removing the ACOE as a river authority to reduce confusion. The requirements of the section are unchanged. This rule also corrects a punctuation error in § 164.72(b)(2)(ii)(C).

Technical Amendments to Title 46 of the CFR

In § 2.01-7, Table 2.01-7(a), under the fourth column covering “Vessels inspected and certificated under Subchapter I—Cargo and Miscellaneous Vessels,” on line (2) entitled “Motor, seagoing motor vessels ≥300 gross tons”, the Coast Guard is removing a comma that was erroneously added by a technical amendment so that it is clearer that these regulations apply to the regulated vessels even when they are not engaged in trade. This rule removes the second comma in the following sentence in Table 2.01-7(a): “All vessels, including recreational vessels, not engaged in trade.” In 2009, we issued a rule that was intended to only make non-substantive changes related to the definition of “ferry” in 46 CFR, but in the process, that technical and conforming amendment rule (74 FR 63617, December 4, 2009) inserted an extra comma in the sentence quoted above. The comma unintentionally altered the meaning of the sentence, so that in both tables instead of covering all vessels “including recreational vessels not engaged in trade,” the sentence with two commas now may be read to include a vessel only if it was not engaged in trade—regardless of the nature of the vessel, recreational or commercial. This erroneous comma introduced by the 2009 technical amendment went unnoticed again in 2013, when we included the comma in Table 2.01-7(a) in a final rule titled “Seagoing Barges” (78 FR 53285, August 29, 2013). Neither the 2009 technical amendment nor the 2013 “Seagoing Barges” final rule mentioned any intention of substantively changing column 4 of Table 2.01.7(a) to cover vessels only when they were engaged in trade, nor did the Coast Guard ever enforce it that way.

This rule updates the delivery mailing addresses for payment by check in § 2.10-20(d)(1)(ii) through (iii) and 2.10-20(d)(2)(ii) through (iii).

In § 10.203(a), this rule deletes paragraph (a), and redesignates paragraphs (b) through (d) as (a) through (c). Section 10.203(a) stated that until April 15, 2014, mariners with a merchant mariner document or similar license with a restriction on it did not have to carry a merchant mariner credential (MMC), as required by this chapter. Since April 15, 2014 has passed, all mariners required to hold a license or endorsement must hold an MMC. As a result, the Coast Guard is deleting the obsolete grandfathering clause in § 10.203(a) to conform to the current regulations and to avoid confusion.

In § 10.209(d), this rule adds a cross-reference that was inadvertently left out of the initial rulemaking. Section 10.209(d) describes the methods of submitting an MMC application and points the public to various sections that describe a complete MMC application. This rule adds § 10.223 to the list of sections that describe a complete MMC package. Section 10.223 contains the requirements for an application to modify or remove limitations on MMC endorsements, such as tonnage limitations or geographical route restrictions. We are adding this section to the list of references describing complete applications to be comprehensive in pointing to all types of complete applications, which was the intent of this section. In the supplemental notice of proposed rulemaking titled “Consolidation of Merchant Mariner Qualification Credentials” (72 FR 3605, January 25, 2007), we describe why we did not include the reference originally in § 10.209(d). For that section, we decided to separate the original application requirements from the renewal requirements because “[w]hen we attempted to list all of the requirements for originals that renewals, duplicates and/or raises in grade are exempted from, we found the maze of cross-references to be needlessly confusing” (72 FR 3631, January 25, 2007). We unintentionally omitted the reference to § 10.223 for modifying the scope or limitations and adding the reference to § 10.209(d) will not change the requirements for modifying or removing limitations or the scope of a MMC.

This rule amends § 10.221(b) by removing the reference dates, “Beginning April 15, 2009,” and “Until April 15, 2009, proof of citizenship or alien status must be submitted by appearing at a Regional Exam Center” because these provisions are no longer applicable after the referenced date. What remains in § 10.221(b) after this amendment is the longstanding requirement that proof of citizenship must be submitted to the Transportation Security Administration with the applicant's Transportation Worker Identification Credential application in accordance with 49 CFR 1572.17(a)(11). The requirements of this section remain unchanged by this amendment.

In § 10.229(b), this rule deletes the second and third sentences because they reference what the Coast Guard will issue for duplicate credentials up until April 15, 2014. Because the provision is no longer applicable after the referenced date, the Coast Guard is removing this obsolete provision.

In §§ 10.232(e)(1), 10.232(e)(2)(i), 11.211(c)(2), 11.301(b)(1), 11.430(e), and 11.465(a), this rule removes all references in the text to “upgrade,” “raise-of-grade,” or “raise in grade” and replaces them with the text “raise of grade” to standardize the terminology through these sections and eliminate any ambiguity that could result from having three references with an identical meaning. In Table 1 to § 10.239, the Coast Guard is replacing all references to “§ 12.601(c)” with “§ 12.602(a)” within the “First aid and CPR” column to revise an incorrect cross-reference. Section 12.602(a) contains the standards of competence for basic training, including first aid training, that STCW endorsement applicants must meet for the listed STCW endorsements in Table 1 to § 10.239.

This rule removes from title 46 the grandfathering provisions in § 10.301(g)(1), (2), (3), and (5) because the delayed implementation date or final date for using these provisions as alternate means of compliance expired on January 1, 2017. Section 10.301(g)(1) stated that all candidates who apply for a MMC with seagoing service or training performed on or after March 24, 2014 or who apply for the MMC after January 1, 2017 have to comply with the requirements of this section. Since the date for when the section became applicable to all applicants passed on January 1, 2017, the grandfathering provision has not been available. All applicants must meet the requirements of this section and the grandfathering provision is obsolete because any new applicant will not be able to invoke the provision. Enough time has passed that the Coast Guard believes that the provision is no longer applicable to any mariner or Coast Guard-approved courses, programs, or training. To avoid misunderstanding on the requirements of this section, we are removing these obsolete provisions from the regulations.

In § 10.305(a)(2), the Coast Guard is removing the qualifier for “After January 1, 2017” because the referenced date has passed and all applicants for STCW endorsements under this part should be in compliance with this section. The grandfathering deadline is no longer relevant to this part since all are required to meet the vision requirements outlined in this section. Additional changes made by this rule to § 10.305(a)(2) include replacing “meets” with “previously met” because it is unlikely that a mariner meets the vision requirements and suffers vision loss at the same time. The Coast Guard is changing the language to past tense to undo this anomaly and avoid confusion. There is no change in the vision requirements in § 10.305(a)(2) as a result of this technical amendment.

Moreover, in § 10.305(c) this rule replaces an outdated reference to the “MMC” with “medical certificate” to conform with the National Maritime Center's actual practice to place the vision waiver limitation on the medical certificate, rather than the MMC. The misalignment between the inaccurate regulation and actual practice caused confusion for the affected population, so we are conforming the text to correctly state that the vision waiver limitation should be placed on the medical certificate.

This rule removes from title 46 the grandfathering provision in § 10.410(f) because the delayed implementation date or final date for using them as means for alternate compliance expired on January 1, 2017. Section 10.410(f) stated that all Coast Guard-approved STCW endorsement courses, programs, and training had to meet the requirements of part 10 by January 1, 2017. This reference date has passed and all courses must be in compliance. These provisions are no longer applicable to any mariner or Coast Guard-approved courses, programs, or training. To avoid misunderstandings on the requirements of this section, we are removing these obsolete provisions from the regulations.

In § 10.402(b), this rule updates the subject office name from “Office of Vessel Activities (CG-CVC)” to “Office of Merchant Mariner Credentialing” to reflect organizational changes. Within this same section, this rule edits the final sentence to say “and include the following:” to start the list of items that must be included in a curriculum package.

This rule corrects a cross-reference in § 11.201(b) by replacing § 11.467(i) with 11.467(h) as the exception to the requirement that mariners must be proficient in the English language. Section 11.467(i) does not exist. The correct paragraph (h) states that applicants for operator of uninspected passenger vessels of less than 100 GRT who speak Spanish, but not English, may operate in the vicinity of Puerto Rico.

This rule removes the grandfathering provisions from § 11.301(g)(1) through (5) because the established date has already passed and all renewals and new candidates for mariner credentials must now meet the requirements of part 11. Paragraphs (g)(1) through (5) in § 11.301 permitted the Coast Guard to issue STCW endorsements that met the older requirements of this part before it was amended on March 24, 2014, until January 1, 2017. Because January 1, 2017, has passed, the Coast Guard can no longer issue the certifications under previous versions of the rules. The grandfathering provisions in § 11.301(g)(1) exempted candidates who started training and sea service before March 24, 2014 from certain requirements in part 11 until January 1, 2017. Paragraph (g)(1) explicitly states that all mariner applications for credentials under part 11 must comply with the requirements of this part after January 1, 2017. Also, this final rule removes the second grandfathering provision in § 11.301(g)(2) that exempted seafarers holding an STCW endorsement prior to March 24, 2014, from having to complete any additional training until January 1, 2017. Because the referenced date has passed, mariners can no longer use this training exemption. The removal of these grandfathering provisions will have no effect on any mariner because, according to the text, all mariners applying for, renewing, or upgrading credentials after January 1, 2017 must comply with the current requirements of part 11.

In §§ 11.305, 11.307, 11.311, and 11.313, this rule replaces all references to “shiphandling” with “ship handling” to conform to how it is spelled in other regulations and international standards.

In Table 1 to § 11.309(e), this rule replaces the reference to “A-II/2” with “A-II/1” in the “Competence” column heading to correct the location of the standards of competency. Section 11.309 contains the requirements for an STCW endorsement as an Officer in charge of navigational watch on vessels of 500 gross tonnage (GT) or more. The updated STCW table reference, A-II/1, also contains the requirements for this rating.

In Table 1 to § 11.311(d), this rule replaces the reference to “A-II/3” with “A-II/2” in the “Competence” column heading to correct the location of the standards of competency. Section 11.311 contains the requirements for an STCW endorsement as a master of vessels of 500 GT or more and less than 3,000 GT. The updated STCW table reference, A-II/2, also contains the requirements for this rating.

In § 11.315(c) and Table 1 to § 11.315(d), this rule replaces the references to STCW Table “A-II/3” with “A-II/2” to correctly reference the standards of competency for an STCW endorsement as a master of vessels of less than 500 GT in § 11.315. The updated STCW Table reference, A-II/2, also contains the requirements for this rating.

In § 11.319(c) and Table 1 to § 11.319(d), this rule replaces both STCW table citations “A-II/3” with the correct Table “A-II/1.” Section 11.319 contains the requirements for an endorsement as an officer in charge of a navigational watch of vessels of less than 500 GT operational level. In § 11.319(a), it states that an “officer in charge of a navigational watch serving on a seagoing ship of less than 500 GT not engaged on near-coastal voyages shall hold a certificate of competency for ships of 500 GT or more.” The previous STCW table reference to A-II/3 contains the requirements for officers in charge of navigational watch and for masters on ships of less than 500 GT limited to near-coastal voyages. Since the regulations in § 11.319 are not limited to near coastal voyages, STCW Table A-II/1, which is titled “Specification of minimum standard of competence for officers in charge of a navigational watch on ships of 500 GT or more,” contains the correct and intended competencies for this requirement. This correction conforms the section to the regulations as written and consistently interpreted without affecting the mariner's obligations under this section.

Also within § 11.319, this rule fixes two incorrect cross-references in footnotes 2 and 3 to Table 1 to § 11.319(d) to their correct paragraphs within this section. These footnotes reiterate that Table 1 to § 11.319(d) is illustrative and not all-inclusive, but that the mariner must complete the items in the referenced paragraphs of this section as well. There is no change in the obligations of the public by correcting these cross-references.

In the “Competence” column heading of Table 1 to § 11.331(e), this rule corrects a reference to the STCW table. This section, § 11.331, is for chief engineer officer competence on ships powered by main propulsion machinery of less than 3,000 kW. The incorrect reference to STCW Table A-III/2 contains the competencies for chief engineer officers on ships powered by main propulsion machinery of 3,000 kW propulsion power or more. The correct STCW table reference is A-III/3, which contains the minimum competencies to qualify as a chief engineer officer on ships powered by main propulsion machinery of less than 3,000 kW. This change aligns the table with the references in the regulatory text.

For similar reasons, this rule also corrects the “Competence” column heading of Table 1 to § 11.333(d), to the correct STCW table. Section 11.333 is for second engineer officer competence on ships powered by main propulsion machinery of less than 3,000 kW. The incorrect reference to STCW Table A-III/2 contains the competencies for chief and second engineer officers on ships powered by main propulsion machinery of 3,000 kW propulsion power or more. The correct STCW table reference is A-III/3, which contains the minimum competencies to qualify as a second engineer officer on ships powered by main propulsion machinery of less than 3,000 kW. This change aligns the table with the STCW references in the regulatory text.

This rule revises § 11.464(g)(1) by replacing an erroneous cross-reference to paragraph (f) with a corrected cross-reference to paragraph (e) as the source of the exception to having a minimum of 30 days of training and observation on towing vessels. Paragraph (f) of this section contains the requirement that companies maintain evidence that the vessel operator is properly qualified, which is not relevant to the 30 days of training minimum mentioned in paragraph(g)(1). Paragraph (e) in § 11.464 contains the requirement that mariners applying for the Master of towing vessels on the Western Rivers endorsement must possess a minimum 90 days of observation and training, instead of the 30 day minimum in paragraph in (g)(1). In the supplemental notice of proposed rulemaking (SNPRM) preceding the final rule that implemented this section, this section (previously § 11.464(i)(1)) correctly cross referenced the western river exception that is currently in paragraph (e) (76 FR 45908, 46010, Aug. 1, 2011). However, the Coast Guard's 2013 final rule that implemented these sections mentions that three paragraphs in § 11.464 of the SNPRM's proposed text were left out of the final rule for more consideration and the cross-reference was not updated accordingly (78 FR 77796, 77829 and 77937, Dec. 24, 2013).

This rule corrects the reference in § 11.480(b)(2) to “Gulf Intercoastal waterways (GIWW)” to its accurate reference, “Gulf Intracoastal waterways (GIWW).”

In § 11.603 titled, “Requirements for radio officers' endorsements,” this rule updates the name of licenses issued by the Federal Communications Commission (FCC) for radio telegraph operator licenses because on May 20, 2013, the FCC consolidated the First and Second class Radiotelegraph Operator Certificates into a one single license class called the Radiotelegraph Operator License (T). To conform to the updated FCC license structure, this rule removes the references to “first or second class,” so that the section reflects the current name of the same licenses. This rule adds a “(T)” to the end of the license name to reflect the FCC's abbreviation for the license name.

This rule corrects a cross-reference to the definition of “near-coastal voyage” in § 11.1105(d) from § 11.301(h) to § 10.107. Section 11.301(h) contains regulations for mariners holding both a STCW and national endorsements on small vessels in domestic, near-coastal voyages, but does not contain a definition of near coastal voyages. This technical amendment changes the citation to “§ 10.107,” the definition section for subchapter B, which does contain the definition of “near-coastal voyage.”

This rule amends § 12.603 by removing paragraph (b), which refers to a provision that was applicable only until January 1, 2017. Because the referenced deadline has passed and this provision is no longer applicable to any qualifications for the STCW endorsement as able seafarer-deck, we are removing it to avoid confusion as to its applicability. To account for the deletion of § 12.603(b), this rule also renumbers the subsections and corrects a cross-reference. In the title of Table 1 to § 12.603(e), we update the cross-reference to § 12.603(d) to reflect the renumbering.

This rule removes the grandfathering clauses for STCW rating endorsements located in § 12.603(c)(1) through (4) because all four of the provisions have not been applicable to any merchant mariner since January 1, 2017, according to the regulatory text and practice. This rule also removes § 12.601(c)(1), which states that after January 1, 2017 the merchant mariner applicant must meet the provisions of part 12. Removing these provisions will have no effect on any mariner because all mariners applying for, renewing, or upgrading credentials after January 1, 2017 must comply with the current requirements in part 12. In order to conform to the requirements part 12 of title 46 and to improve the clarity of the regulations, the Coast Guard is removing the out-of-date grandfathering provisions listed in these sections.

Similarly in § 12.607, this rule deletes paragraph (b), which refers to a provision that was applicable only until January 1, 2017. Because the referenced deadline has passed and this provision is no longer applicable to any qualifications for the STCW endorsement for able seafarer-engine, we are removing it to avoid confusion as to its applicability. To account for the deletion of § 12.607(b), this rule also renumbers the subsections and corrects a cross-reference. In the title of Table 1 to § 12.607(e) we update the cross-reference to § 12.607(d) to reflect the renumbering.

In § 12.613(a)(3), the text “§ 12.601(c)” is replaced with the text “§ 12.602” to correct a longstanding error in the cross-reference. Section 12.601(c) does not address basic training requirements, which is the subject of § 12.613(a)(3). Section 12.602 addresses the standard of competence for basic training.

This rule updates an incorrect cross-reference to subpart J in § 15.530(b)(4)(iv) to subpart I, because the training for non-resident alien crewmembers is contained in subpart I of the referenced subchapter.

In paragraphs (c)(1), (d)(1), and (e)(1) of § 15.860, this rule corrects the spelling of “and” and “or.”

Also in § 15.860, this rule adds a period to the end of each of the following paragraphs: (b)(3), (c)(2), (d)(2), (e)(2), (f)(1), (f)(2), (f)(3), (f)(4), (g), and (h)(1).

In both § 15.860(f) and (h), this rule adds colons to the end of the paragraph to correct missing punctuation.

In § 15.1101(a)(2), this rule adds the missing term “near coastal” between “domestic” and “voyages” to correct an omission of language that was inadvertently left out of this subparagraph. Adding the term aligns the text with the terminology used in the international standards and other regulations within this subchapter, which refer to “domestic, near-coastal voyages.” There will not be any change in the obligations of the public by conforming the language to the international standards and regulations.

In the periodic drug testing requirements for § 16.220(a), this rule replaces an incorrect cross-reference to § 10.227(e) with a corrected cross-reference to § 10.227(g). Paragraph (g) is the proper reference here because it contains the provisions for those who are unwilling or unable to pass drug tests for the purpose of renewing a credential. Section 10.227(e) contains the unrelated professional requirements for renewing a credential.

This rule amends the authority citation for part 26 by removing a repealed Title 46 U.S.C. statutory authority and replacing it with the correct Title 46 statutory authorities for regulating uninspected passenger vessels.

In § 28.210(b)(1)(ii), this rule corrects an incorrect cross-reference to another section within this chapter for the courses approved by the Coast Guard for first aid equipment and training.

In §§ 162.060-14(b) and 162.060-42(a)(3), this rule adds the email addresses for the Marine Safety Center as an alternate method of contact.

V. Regulatory Analyses

We developed this rule after considering numerous statutes and Executive orders related to rulemaking. Below we summarize our analyses based on these statutes or Executive orders.

A. Regulatory Planning and Review

Executive Orders 12866 (Regulatory Planning and Review) and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. Executive Order 13771 (Reducing Regulation and Controlling Regulatory Costs) directs agencies to reduce regulation and control regulatory costs and provides that “for every one new regulation issued, at least two prior regulations be identified for elimination, and that the cost of planned regulations be prudently managed and controlled through a budgeting process.”

The Office of Management and Budget (OMB) has not designated this rule a significant regulatory action under section 3(f) of Executive Order 12866. Accordingly, OMB has not reviewed it. Because this rule is not a significant regulatory action, this rule is exempt from the requirements of Executive Order 13771. See the OMB Memorandum titled “Guidance Implementing Executive Order 13771, titled `Reducing Regulation and Controlling Regulatory Costs' ” (April 5, 2017). This rule involves non-substantive changes and internal agency practices and procedures; it will not impose any additional costs on the public. The benefit of the non-substantive changes is increased clarity of regulations.

B. Small Entities

Under the Regulatory Flexibility Act, 5 U.S.C. 601-612, we have considered whether this rule would have a significant economic impact on a substantial number of small entities. The term “small entities” comprises small businesses, not-for-profit organizations that are independently owned and operated and are not dominant in their fields, and governmental jurisdictions with populations of less than 50,000.

This rule is not preceded by a notice of proposed rulemaking. Therefore, it is exempt from the requirements of the Regulatory Flexibility Act (5 U.S.C. 601-612). The Regulatory Flexibility Act does not apply when notice and comment rulemaking is not required. This rule consists of technical, organizational, and conforming amendments and does not have any substantive effect on the regulated industry or small businesses. Therefore, the Coast Guard certifies under 5 U.S.C. 605(b) that this rule will not have a significant economic impact on a substantial number of small entities.

C. Assistance for Small Entities

Under section 213(a) of the Small Business Regulatory Enforcement Fairness Act of 1996, Public Law 104-121, we offer to assist small entities in understanding this rule so that they can better evaluate its effects on them and participate in the rulemaking. The Coast Guard will not retaliate against small entities that question or complain about this rule or any policy or action of the Coast Guard.

D. Collection of Information

This rule calls for no new collection of information under the Paperwork Reduction Act of 1995, 44 U.S.C. 3501-3520.

E. Federalism

A rule has implications for federalism under Executive Order 13132 (Federalism) if it has a substantial direct effect on States, on the relationship between the national government and the States, or on the distribution of power and responsibilities among the various levels of government. We have analyzed this rule under Executive Order 13132 and have determined that it is consistent with the fundamental federalism principles and preemption requirements described in Executive Order 13132.

F. Unfunded Mandates Reform Act

The Unfunded Mandates Reform Act of 1995, 2 U.S.C. 1531-1538, requires Federal agencies to assess the effects of their discretionary regulatory actions. In particular, the Act addresses actions that may result in the expenditure by a State, local, or tribal government, in the aggregate, or by the private sector of $100,000,000 (adjusted for inflation) or more in any one year. Although this rule will not result in such expenditure, we do discuss the effects of this rule elsewhere in this preamble.

G. Taking of Private Property

This rule will not cause a taking of private property or otherwise have taking implications under Executive Order 12630 (Governmental Actions and Interference with Constitutionally Protected Property Rights).

H. Civil Justice Reform

This rule meets applicable standards in sections 3(a) and 3(b)(2) of Executive Order 12988 (Civil Justice Reform) to minimize litigation, eliminate ambiguity, and reduce burden.

I. Protection of Children

We have analyzed this rule under Executive Order 13045 (Protection of Children from Environmental Health Risks and Safety Risks). This rule is not an economically significant rule and would not create an environmental risk to health or risk to safety that might disproportionately affect children.

J. Indian Tribal Governments

This rule does not have tribal implications under Executive Order 13175 (Consultation and Coordination with Indian Tribal Governments), because it would not have a substantial direct effect on one or more Indian tribes, on the relationship between the Federal Government and Indian tribes, or on the distribution of power and responsibilities between the Federal Government and Indian tribes.

K. Energy Effects

We have analyzed this rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

M. Environment

We have analyzed this rule under Department of Homeland Security Management Directive 023-01 and Environmental Planning COMDTINST 5090.1 (series), which guide the Coast Guard in complying with the National Environmental Policy Act of 1969 (42 U.S.C. 4321-4370f), and have concluded that this action is one of a category of actions that do not individually or cumulatively have a significant effect on the human environment. A final Record of Environmental Consideration supporting this determination is available in the docket where indicated in the ADDRESSES section of this preamble. This final rule involves non-substantive technical, organizational, and conforming amendments to existing Coast Guard regulations. Therefore, this rule is categorically excluded under paragraph L54 in Table 3-1 of U.S. Coast Guard Environmental Planning Implementing Procedures 5090.1. Paragraph L54 pertains to regulations which are editorial or procedural.

List of Subjects

33 CFR Part 1

Administrative practice and procedure, Authority delegations (Government agencies), Freedom of information, Penalties.

33 CFR Part 26

Communications equipment, Marine safety, Radio, Telephone, Vessels.

33 CFR Part 80

Navigation (water), Treaties, Waterways.

33 CFR Part 81

Navigation (water), Reporting and recordkeeping requirements, Treaties.

33 CFR Part 83

Fishing vessels, Navigation (water), Waterways.

33 CFR Part 89

Navigation (water), Reporting and recordkeeping requirements, Waterways.

33 CFR Part 100

Marine safety, Navigation (water), Reporting and recordkeeping requirements, Waterways.

33 CFR Part 117

Bridges.

33 CFR Part 151

Administrative practice and procedure, Oil pollution, Penalties, Reporting and recordkeeping requirements, Water pollution control.

33 CFR Part 154

Alaska, Fire prevention, Hazardous substances, Oil pollution, Reporting and recordkeeping requirements.

33 CFR Part 155

Alaska, Hazardous substances, Oil pollution, Reporting and recordkeeping requirements.

33 CFR Part 156

Hazardous substances, Oil pollution, Reporting and recordkeeping requirements, Water pollution control.

33 CFR Part 161

Harbors, Navigation (water), Reporting and recordkeeping requirements, Vessels, Waterways.

33 CFR Part 164

Marine, Navigation (water), Reporting and recordkeeping requirements, Waterways.

46 CFR Part 2

Marine safety, Reporting and recordkeeping requirements, Vessels.

46 CFR Part 10

Penalties, Personally identifiable information, Reporting and recordkeeping requirements, Seamen.

46 CFR Part 11

Penalties, Reporting and recordkeeping requirements, Schools, Seamen.

46 CFR Part 12

Penalties, Reporting and recordkeeping requirements, Seamen.

46 CFR Part 15

Reporting and recordkeeping requirements, Seamen, Vessels.

46 CFR Part 16

Drug testing, Marine safety, Reporting and recordkeeping requirements, Safety, Transportation.

46 CFR Part 26

Marine safety, Penalties, Reporting and recordkeeping requirements.

46 CFR Part 28

Alaska, Fire prevention, Fishing vessels, Marine safety, Occupational safety and health, Reporting and recordkeeping requirements, Seamen.

46 CFR Part 162

Fire prevention, Marine safety, Oil pollution, Reporting and recordkeeping requirements.

For the reasons discussed in the preamble, the Coast Guard amends 33 CFR parts 1, 26, 80, 81, 83, 89, 100, 117, 151, 154, 155, 156, 161, and 164 and 46 CFR parts 2, 10, 11, 12, 15, 16, 26, 28, and 162 as follows:

Title 33—Navigation and Navigable Waters

PART 1—GENERAL PROVISIONS

Subpart 1.08—Written Warnings by Coast Guard Boarding Officers

1. The authority citation for subpart 1.08 continues to read as follows:

Authority: 14 U.S.C. 633; 49 CFR 1.46(b).

§ 1.08-1 [Amended]

2. In § 1.08-1(a)(11), remove the text “88.05” and add, in its place, the text “83.01(g)”.

PART 26—VESSEL BRIDGE-TO-BRIDGE RADIOTELEPHONE REGULATIONS

3. Revise the authority citation for part 26 to read as follows:

Authority: 14 U.S.C. 2, 33 U.S.C. 1201-1208; Pub. L. 107-295, 116 Stat. 2064; Department of Homeland Security Delegation No. 0170.1; Rule 1, International Regulations for the Prevention of Collisions at Sea.

§ 26.08 [Amended]

4. In § 26.08(a), remove the text “Marine Safety, Security and Environmental Protection” and add, in its place, the text “Prevention Policy”.

PART 80—COLREGS DEMARCATION LINES

5. The authority citation for part 80 continues to read as follows:

Authority: 14 U.S.C. 2; 14 U.S.C. 633; 33 U.S.C. 151(a).

6. In § 80.750, revise paragraphs (b) and (f) to read as follows:

§ 80.750 Sanibel Island, FL to St. Petersburg, FL.

* * * * *

(b) A line drawn across the Charlotte Harbor entrance from position latitude 26°42.18′ N, longitude 070°41.2′ W to Port Boca Grande Light.

* * * * *

(f) A line drawn from position latitude 27°17.89′ N, longitude 082°33.55′ W to the southernmost extremity of Lido Key (position latitude 27°17.93′ N, longitude 082°33.99′ W).

* * * * *

7. In § 80.753, revise paragraphs (a) and (d) to read as follows:

§ 80.753 St. Petersburg, FL to the Anclote, FL.

(a) A line drawn across Blind Pass, from the seaward extremity of the Long Key jetty to the seaward extremity of the Treasure Island jetty.

* * * * *

(d) A line drawn from the northernmost extremity of Honeymoon Island to Anclote Anchorage South Entrance Light 3; thence to Anclote Key position latitude 28°10.0′ N longitude 082°50.6′ W; thence a straight line to position latitude 28°11.11′ N, longitude 082°47.91′ W.

§ 80.810 [Amended]

8. In § 80.810, remove paragraphs (c) and (d); and redesignate paragraphs (e) through (h) as paragraphs (c) through (f).

PART 81—72 COLREGS: IMPLEMENTING RULES

9. The authority citation for part 81 continues to read as follows:

Authority: 33 U.S.C. 1607; E.O. 11964; 49 CFR 1.46.

§ 81.3 [Amended]

10. In § 81.3, remove the words “Marine Safety” and add, in their place, the word “Prevention”.

§ 81.5 [Amended]

11. In § 81.5(a) introductory text, remove the words “Marine Safety” and add, in their place, the word “Prevention”.

§ 81.9 [Amended]

12. In § 81.9 introductory text, remove the words “Marine Safety” and add, in their place, the word “Prevention”.

PART 83—NAVIGATION RULES

13. The authority citation for part 83 continues to read as follows:

Authority: Sec. 303, Pub. L. 108-293, 118 Stat. 1042 (33 U.S.C. 2071); Department of Homeland Security Delegation No. 0170.1.

§ 83.24 [Amended]

14. In § 83.24(h), after the words “exhibit the lights”, add the words “or shapes”.

§ 83.26 [Amended]

15. In § 83.26(f)(i), remove the word “around” and add, in its place, the word “round”; in § 83.26(f)(ii)(2)(B), remove the text “(a)” and add, in its place, “(f)(ii)(1).”

§ 83.27 [Amended]

16. In § 83.27(d)(iv)(1)(B) and (d)(iv)(2)(A), remove the word “around” and add, in its place the word “round”.

PART 89—INLAND NAVIGATION RULES: IMPLEMENTING RULES

17. The authority citation for part 89 continues to read as follows:

Authority: 33 U.S.C. 2071; 49 CFR 1.46(n)(14).

§ 89.3 [Amended]

18. In § 89.3, remove the words “Marine Safety” and add, in their place, the word “Prevention”.

§ 89.5 [Amended]

19. In § 89.5(a) introductory text, remove the words “Marine Safety” and add, in their place, the word “Prevention”.

§ 89.9 [Amended]

20. In § 89.9 introductory text, remove the words “Marine Safety” and add, in their place, the word “Prevention”.

§ 89.27 [Amended]

21. In the section heading to § 89.27 and paragraphs (a) and (b), remove the text “24(i)” and add, in its place, the text “24(j)”.

PART 100—SAFETY OF LIFE ON NAVIGABLE WATERS

22. The authority citation for part 100 continues to read as follows:

Authority: 46 U.S.C. 70041; 33 CFR 1.05-1.

§§ 100.1 through 100.45 [Designated as Subpart A]

23. Designate §§ 100.01 through 100.45 as subpart A under the heading “Subpart A—General”.

24. In § 100.35, add paragraph (d) to read as follows:

§ 100.35 Special local regulations.

* * * * *

(d) We have organized the special local regulations by district. Subparts B through J contain special local regulations from the First, Fifth, Seventh, Eighth, Ninth, Eleventh, Thirteenth, Fourteenth, and Seventeenth Districts, respectively.

§§ 100.50 through 100.99 [Added and Reserved]

25. Add reserved §§ 100.50 through 100.99 to newly designated subpart A.

§§ 100.100 through 100.170 [Designated as Subpart B]

26. Designate §§ 100.100 through 100.170 as subpart B under the heading “Subpart B—First Coast Guard District”.

§§ 100.180 through 100.499 [Added and Reserved]

27. Add reserved §§ 100.180 through 100.499 to newly designated subpart B.

§ 100.500 [Added and Reserved]

28. Add reserved § 100.500.

§§ 100.500 and 100.501 [Designated as Subpart C]

29. Designate §§ 100.500 and 100.501 as subpart C under the heading “Subpart C—Fifth Coast Guard District”.

§§ 100.550 through 100.699 [Added and Reserved]

30. Add reserved §§ 100.550 through 100.699 to newly designated subpart C.

§ 100.700 [Added and Reserved]

31. Add reserved § 100.700.

§§ 100.700 through 100.740 [Designated as Subpart D]

32. Designate reserved §§ 100.700 through 100.740 as subpart D under the heading “Subpart D—Seventh Coast Guard District”.

§§ 100.750 through 100.799 [Added and Reserved]

33. Add reserved §§ 100.750 through 100.799 to newly designated subpart D.

§ 100.800 [Added and Reserved]

34. Add reserved § 100.800.

§§ 100.800 and 100.801 [Designated as Subpart E]

35. Designate §§ 100.800 and 100.801 as subpart E under the heading “Subpart E—Eighth Coast Guard District”.

§§ 100.850 through 100.899 [Added and Reserved]

36. Add reserved §§ 100.850 through 100.899 to newly designated subpart E.

§ 100.900 [Added and Reserved]

37. Add reserved § 100.900.

§§ 100.900 through 100.929 [Designated as Subpart F]

38. Designate §§ 100.900 through 100.929 as subpart F under the heading “Subpart F—Ninth Coast Guard District”.

§§ 100.950 through 100.1099 [Added and Reserved]

39. Add reserved §§ 100.950 through 100.1099 to newly designated subpart F.

§ 100.1100 [Added and Reserved]

40. Add reserved § 100.1100.

§§ 100.1100 through 100.1105 [Designated as Subpart G]

41. Designate §§ 100.1100 through 100.1105 as subpart G under the heading “Subpart G—Eleventh Coast Guard District”.

§§ 100.1150 through 100.1299 [Added and Reserved]

42. Add reserved §§ 100.1150 and 100.1299 to newly designated subpart G.

§ 100.1300 [Added and Reserved]

43. Add reserved § 100.1300.

§§ 100.1300 through 100.1309 [Designated as Subpart H]

44. Designate §§ 100.1300 through 100.1309 as subpart H under the heading “Subpart H—Thirteenth Coast Guard District”.

§§ 100.1350 through 100.1399 [Added and Reserved]

45. Add reserved §§ 100.1350 through 100.1399 to newly designated subpart H.

§ 100.1400 [Added and Reserved]

46. Add reserved § 100.1400.

§§ 100.1400 and 100.1401 [Designated as Subpart I]

47. Designate §§ 100.1400 and 100.1401 as subpart I under the heading “Subpart I—Fourteenth Coast Guard District”.

§§ 100.1450 through 100.1699 [Added and Reserved]

48. Add reserved §§ 100.1450 through 100.1699 to newly designated subpart I.

48a. Add subpart J, consisting of reserved §§ 100.1700 through 100.1799, to read as follows:

Subpart J—Seventeenth Coast Guard District

§§ 100.1700 through 100.1799 [Reserved]

PART 117—DRAWBRIDGE OPERATION REGULATIONS

49. The authority citation for part 117 continues to read as follows:

Authority: 33 U.S.C. 499; 33 CFR 1.05-1; and Department of Homeland Security Delegation No. 0170.1.

§ 117.149 [Amended]

50. In § 117.149, remove the text “3rd” and “4th” and add, in their place, the text “Third” and “Fourth”, respectively.

§ 117.163 [Amended]

51. In § 117.163(b), remove the text “3rd” and add, in its place, the text “Third”.

§ 117.175 [Amended]

52. In § 117.175(b,), remove the word “Counties” and add, in its place, the word “counties”.

§ 117.193 [Amended]

53. In § 117.193, remove the words “Highway and Bicycle” and add, in their place, the words “highway and bicycle”.

54. Revise § 117.523 to read as follows:

§ 117.523 Back River.

The draw of the Barter's Island Bridge, mile 2.0, between Hodgdon and Barters Island at Boothbay, shall open on signal from June 1 through October 31; except that, from 5 p.m. to 8 a.m., the draw shall be opened on signal if notice was given to the drawtender from 8 a.m. to 5 p.m. From November 1 through May 31 the draw shall open on signal if at least 24 hours notice is given to the drawtender or to the Maine Department of Transportation at Augusta.

55. Revise § 117.621 to read as follows:

§ 117.621 West Bay

The draw of the West Bay Bridge, mile 1.2, at Osterville, shall operate as follows:

(a) From November 1 through April 30, the draw shall open on signal if at least a twenty-four hours advance notice is given.

(b) From May 1 through June 15, the draw shall open on signal from 8 a.m. to 6 p.m.

(c) From June 16 through September 30, the draw shall open on signal from 7 a.m. to 9 p.m.

(d) From October 1 through October 31, the draw shall open on signal from 8 a.m. to 6 p.m.

(e) At all other times from May 1 through October 31, the draw shall open on signal if at least a four-hours advance notice is given by calling the number posted at the bridge.

56. Revise § 117.622 to read as follows:

§ 117.622 Weymouth Fore River.

The draw of the Quincy Weymouth SR3A bridge, mile 3.5 between Quincy Point and North Weymouth, Massachusetts, shall open on signal, except that:

(a) From 6:30 a.m. to 9 a.m. and from 4:30 p.m. to 6:30 p.m., Monday through Friday, except holidays observed in the locality, the draw need not be opened.

(b) The draw shall open on signal at all times for self-propelled vessels greater than 10,000 gross tons.

(c) From noon to 6 p.m. on Thanksgiving Day, from 6 p.m. on December 24 to midnight on December 25, and from 6 p.m. on December 31 to midnight on January 1, the draw shall open on signal after at least a two-hour advance notice is given by calling the number posted at the bridge.

§ 117.755 [Amended]

57. In § 117.755 introductory text, remove the words “Monmouth County highway bridge” and add, in their place, the words “Sea Bright Bridge”.

§ 117.791 [Amended]

58. Amend § 117.791 as follows:

a. In paragraph (c), remove the text “CSX Transportation Bridge” and add, in its place, the text “Livingston Ave. (Amtrak) Bridge”.

b. In paragraph (d), remove the text “state highway bridge” and add, in its place, the text “Troy-Menands Bridge”.

c. In paragraph (e) introductory text, remove the text “highway bridge” and add, in its place, the text “Troy-Green Bridge”.

PART 151—VESSELS CARRYING OIL, NOXIOUS LIQUID SUBSTANCES, GARBAGE, MUNICIPAL OR COMMERCIAL WASTE, AND BALLAST WATER

59. The authority citation for part 151 continues to read as follows:

Authority: 33 U.S.C. 1321, 1902, 1903, 1908; 46 U.S.C. 6101; Pub. L. 104-227 (110 Stat. 3034); Pub. L. 108-293 (118 Stat. 1063), § 623; E.O. 12777, 3 CFR, 1991 Comp. p. 351; DHS Delegation No. 0170.1, sec. 2(77).

§ 151.1021 [Amended]

60. In § 151.1021(b)(1), after the word “Prevention”, add the word “Policy”.

§ 151.1513 [Amended]

61. In § 151.1513, in the second sentence, after the text “submitted in writing”, add the text “by email to environmental_standards@uscg.mil, or”.

§ 151.2005 [Amended]

62. Amend § 151.2005(b) as follows:

a. Remove the definition for “International Maritime Organization (IMO) ballast water management guidelines”; and

b. In the definition for “Shipboard Technology Evaluation Program (STEP)”, remove the text “http://www.uscg.mil/environmental_standards/” and add, in its place, the text “http://www.dco.uscg.mil/Our-Organization/Assistant-Commandant-for-Prevention-Policy-CG-5P/Commercial-Regulations-standards-CG-5PS/office-oes/”.

§ 151.2026 [Amended]

63. In § 151.2026(b), after the text “20593-7430”, add the text “, or by email to msc@uscg.mil”.

§ 151.2036 [Amended]

64. In § 151.2036, in the second sentence, after the text “submitted in writing”, add the text “by email to environmental_standards@uscg.mil, or”.

65. Amend § 151.2065 by revising the introductory text and paragraph (b) to read as follows:

§ 151.2065 Equivalent reporting methods for vessels other than those entering the Great Lakes or Hudson River after operating outside the U.S. Exclusive Economic Zone or Canadian equivalent.

For vessels required to report under § 151.2060(b)(3) of this subpart, the Chief, Environmental Standards Division (CG-OES-3), acting for the Assistant Commandant for Prevention Policy (CG-5P), may, upon receipt of a written request, consider and approve alternative methods of reporting if—

* * * * *

(b) Compliance with § 151.2060 of this subpart is economically or physically impractical. The Chief, Environmental Standards Division (CG-OES-3), will approve or disapprove a request submitted in accordance with this section within 30 days of receipt of the request.

PART 154—FACILITIES TRANSFERRING OIL OR HAZARDOUS MATERIAL IN BULK

66. The authority citation for part 154 continues to read as follows:

Authority: 33 U.S.C. 1225, 1231, 1321(j)(1)(C), (j)(5), (j)(6), and (m)(2); sec. 2, E.O. 12777, 56 FR 54757; Department of Homeland Security Delegation No. 0170.1. Subpart F is also issued under 33 U.S.C. 2735. Vapor control recovery provisions of Subpart P are also issued under 42 U.S.C. 7511b(f)(2).

67. In § 154.1020, remove the definition for “Dispersant Mission Planner 2 or (DMP2)” and add in alphabetical order a definition for “Estimated Dispersant System Potential Calculator (EDSP)”.

The addition reads as follows:

§ 154.1020 Definitions.

* * * * *

Estimated Dispersant System Potential Calculator (EDSP) means an internet-accessible application that estimates EDAC for different dispersant response systems. The NSFCC will use EDSP for evaluating OSRO dispersant classification levels.

* * * * *

§ 154.1045 [Amended]

68. In § 154.1045(i)(2)(ii), remove the text “DMP2” and add, in its place, the text “EDSP”.

Appendix C to Part 154 [Amended]

69. In Appendix C to part 154, paragraphs 8.2.1.2 and 8.2.3(i), remove the text “Dispersant Mission Planner 2” and “DMP2” wherever they appear, and add, in their place, the text “EDSP”.

PART 155—OIL OR HAZARDOUS MATERIAL POLLUTION PREVENTION REGULATIONS FOR VESSELS

70. The authority citation for part 155 continues to read as follows:

Authority: 3 U.S.C. 301 through 303; 33 U.S.C. 1225, 1231, 1321(j), 1903(b), 2735; E.O. 12777, 56 FR 54757, 3 CFR, 1991 Comp., p. 351; Department of Homeland Security Delegation No. 0170.1. Section 155.1020 also issued under section 316 of Pub. L. 114-120. Section 155.480 also issued under section 4110(b) of Pub. L. 101-380.

71. In § 155.1020, remove the definition for “Dispersant Mission Planner 2 (DMP2)” and add in alphabetical order a definition for “Estimated Dispersant System Potential Calculator (EDSP)” to read as follows:

§ 155.1020 Definitions.

* * * * *

Estimated Dispersant System Potential Calculator (EDSP) means an internet-accessible application that estimates EDAC for different dispersant response systems. The NSFCC will use EDSP for evaluating OSRO dispersant classification levels.

* * * * *

§ 155.1050 [Amended]

72. In § 155.1050(k)(2)(ii), remove the text “Dispersant Mission Planner 2” and add, in its place, the text “EDSP”.

Appendix B to Part 155 [Amended]

73. In Appendix B to part 155, paragraphs 8.2.1.2 and 8.2.3(i), remove the text “Dispersant Mission Planner 2” and “DMP2” wherever they appear, and add, in their place, the text “EDSP”.

PART 156—OIL AND HAZARDOUS MATERIAL TRANSFER OPERATIONS

74. The authority citation for part 156 continues to read as follows:

Authority: 33 U.S.C. 1225, 1231, 1321(j); 46 U.S.C. 3703, 3703a, 3715; E.O. 11735, 3 CFR 1971-1975 Comp., p. 793; Department of Homeland Security Delegation No. 0170.1.

§ 156.210 [Amended]

75. In § 156.210(b), remove the text “(CG-5)” and add, in its place, the text “(CG-ENG)”.

PART 161—VESSEL TRAFFIC MANAGEMENT

76. The authority citation for part 161 continues to read as follows:

Authority: 33 U.S.C. 1223, 1231; 46 U.S.C. 70114, 70119; Pub. L. 107-295, 116 Stat. 2064; Department of Homeland Security Delegation No. 0170.1.

77. Amend § 161.2 as follows:

a. Remove the word “sector” wherever it appears, and add, in its place, the word “zone”;

b. Add definitions in alphabetical order for “Center” and “Published”;

c. In the definition of “Vessel Traffic Service Area or VTS Area”, remove the word “sectors” and add, in its place, the word “zones”; and

d. In the introductory text of the definition of “VTS User”, remove the word “area” and add, in its place, the word “Area”.

The additions read as follows:

§ 161.2 Definitions.

* * * * *

Center means a Vessel Traffic Center or Vessel Movement Center.

* * * * *

Published means available in a widely-distributed and publicly available medium (e.g., VTS User's Manual, ferry schedule, Notice to Mariners).

* * * * *

78. Redesignate the note at the end of the section as Note 1 to § 161.4 and revise it to read as follows:

§ 161.4 Requirement to carry the rules.

* * * * *

Note 1 to § 161.4: These rules are contained in the applicable U.S. Coast Pilot, the VTS User's Manual which may be obtained by contacting the appropriate VTS or downloaded from the Coast Guard Navigation Center website (https://www.navcen.uscg.gov).

§ 161.5 [Amended]

79. In § 161.5(b), remove the text “Vessel Traffic Center (VTC)” and add, in its place, the text “VTC”.

§ 161.12 [Amended]

80. Amend § 161.12 in Table 1 to § 161.12(c) as follows:

a. In entry (10)(ii), in the “Monitoring area” column, remove the words “Strait of Juan de Fuca” and add, in their place, the words “Salish Sea”;

b. In entry (12), remove the text “Mary's” wherever it appears and add, in its place, the text “Marys”; and

c. In Note 6, remove the word “sector” and add, in its place, the word “zone”.

§ 161.17 [Removed and Reserved]

81. Remove and reserve § 161.17.

82. Amend § 161.55 by revising paragraph (c)(3) to read as follows:

§ 161.55 Vessel Traffic Service Puget Sound and the Cooperative Vessel Traffic Service for the Juan de Fuca Region.

* * * * *

(c) * * *

(3) A vessel of less than 100 meters in length is exempt from the provisions set forth in § 161.13(b)(3) of this part.

* * * * *

§ 161.70 [Amended]

83. In entry 4 to the Table to § 161.70(d) and entry 3 to the Table to § 161.70(f), remove the word “Sector” and add, in its place, the word “Zone”.

PART 164—NAVIGATION SAFETY REGULATIONS

84. The authority citation for part 164 continues to read as follows:

Authority: 33 U.S.C. 1223, 1231; 46 U.S.C. 2103, 3703; E.O. 12234, 45 FR 58801, 3 CFR, 1980 Comp., p. 277; Sec. 164.13 also issued under 46 U.S.C. 8502. Sec. 164.46 also issued under 46 U.S.C. 70114 and Sec. 102 of Pub. L. 107-295. Sec. 164.61 also issued under 46 U.S.C. 6101. Department of Homeland Security Delegation No. 0170.1, para. II (70), (92.a), (92.b), (92.d), (92.f), and (97.j).

85. Amend § 164.72 by revising paragraph (b)(2)(ii)(C) to read as follows:

§ 164.72 Navigational-safety equipment, charts or maps, and publications required on towing vessels.

* * * * *

(b) * * *

(2) * * *

(ii) * * *

(C) Tidal-current tables published by private entities using data provided by the NOS, or river-current tables published by a river authority;

* * * * *

Title 46—Shipping

PART 2—VESSEL INSPECTIONS

86. The authority citation for part 2 continues to read as follows:

Authority: Sec. 622, Pub. L. 111-281; 33 U.S.C. 1231, 1903; 43 U.S.C. 1333; 46 U.S.C. 2103, 2110, 3306, 3703; Department of Homeland Security Delegation No. 0170.1(II)(77), (90), (92)(a), (92)(b); E.O. 12234, 45 FR 58801, 3 CFR, 1980 Comp., p. 277, sec. 1-105.

Subpart 2.01—Inspecting and Certificating of Vessels

§ 2.01-7 [Amended]

87. Section 2.01-7 is amended in column 4 to Table 2.01-7(a), paragraph (a)(2)(i), by removing the comma after the text “recreational vessels”.

Subpart 2.10—Fees

88. Amend 2.10-20 by revising paragraphs (d) introductory text, (d)(1)(ii) and (iii), and (d)(2)(ii) and (iii) to read as follows:

§ 2.10-20 General requirements.

* * * * *

(d) Unless otherwise specified or if payment is made through www.pay.gov, fees required by this subpart must be submitted using one of the following methods:

(1) * * *

(ii) For payment by check, made payable to U.S. Treasury, with delivery by postal service, USCG Vessel Inspections Fees, P.O. Box 979118, St. Louis, MO 63197-9000.

(iii) For payment by check, made payable to U.S. Treasury, with delivery by overnight courier, USCG Vessel Inspection Fees, Lockbox No. 979118, U.S. Bank Government Lockbox, 1005 Convention Plaza, ATTN: GOVERNMENT LOCKBOX, SL-MOC1 GL, St. Louis, MO 63101.

(2) * * *

(ii) For payment by check, made payable to U.S. Treasury, with delivery by postal service, USCG User Fees, P.O. Box 979125, St. Louis, MO 63197-9000.

(iii) For payment by check, made payable to U.S. Treasury, with delivery by overnight courier, USCG User Fees, Lockbox No. 979125, U.S. Bank Government Lockbox, 1005 Convention Plaza, ATTN: GOVERNMENT LOCKBOX, SL-MOC1 GL, St. Louis, MO 63101.

* * * * *

PART 10—MERCHANT MARINER CREDENTIAL

89. The authority citation for part 10 continues to read as follows:

Authority: 14 U.S.C. 503; 31 U.S.C. 9701; 46 U.S.C. 2101, 2103, 2110; 46 U.S.C. chapter 71; 46 U.S.C. chapter 73; 46 U.S.C. chapter 75; 46 U.S.C. 2104; 46 U.S.C. 7701, 8903, 8904, and 70105; Executive Order 10173; Department of Homeland Security Delegation No. 0170.1.

§ 10.203 [Amended]

90. Amend § 10.203 as follows:

a. Remove paragraph (a); and

b. Redesignate paragraphs (b) through (d) as paragraphs (a) through (c).

§ 10.209 [Amended]

91. In § 10.209, in paragraphs (d) introductory text and (h), after “§§ ”, add “10.223,”.

92. Amend § 10.221 by revising paragraph (b) to read as follows:

§ 10.221 Citizenship.

* * * * *

(b) Proof of citizenship or alien status must be submitted to the Transportation Security Administration (TSA) with the applicant's TWIC application in accordance with 49 CFR 1572.17(a)(11).

* * * * *

93. Amend § 10.229 by revising paragraph (b) to read as follows:

§ 10.229 Replacement of lost merchant mariner credentials.

* * * * *

(b) The duplicate credential will have the same authority, wording, and expiration date as the lost credential.

* * * * *

§ 10.232 [Amended]

94. Amend § 10.232 in paragraphs (e)(1) and (e)(2)(i) by removing the text “raise in grade” and add, in its place, the text “raise of grade.

§ 10.239 [Amended]

95. In Table 1 to § 10.239, remove the text “12.601(c)” wherever it appears, and, in its place, add the text “12.602(a)”.

§ 10.305 [Amended]

96. Amend § 10.305 as follows:

a. In paragraph (a)(2), in the first sentence remove the text “After January 1, 2017, applicants” and add, in its place, the text “Applicants” and in the second sentence remove the text “meets” and add, in its place, the text “previously met”; and

b. In paragraph (c), remove the text “MMC” and add, in its place, the text “a medical certificate”.

§ 10.402 [Amended]

97. In § 10.402, remove the text “Vessel Activities (CG-CVC)” in paragraph (b) introductory text and add, in its place, the text “Merchant Mariner Credentialing”; and after the text “and include”, add the text “the following”.

§ 10.410 [Amended]

98. Amend § 10.410 by removing paragraph (f) and redesignating paragraphs (g) and (h) as (f) and (g), respectively.

PART 11—REQUIREMENTS FOR OFFICER ENDORSEMENTS

99. The authority citation for part 11 continues to read as follows:

Authority: 14 U.S.C. 503; 31 U.S.C. 9701; 46 U.S.C. 2101, 2103, and 2110; 46 U.S.C. chapter 71; 46 U.S.C. 7502, 7505, 7701, 8906, and 70105; Executive Order 10173; Department of Homeland Security Delegation No. 0170.1. Section 11.107 is also issued under the authority of 44 U.S.C. 3507.

§ 11.201 [Amended]

100. In § 11.201(b), revise the citation “§ 11.467(i)” to read “§ 11.467(h)”.

§ 11.211 [Amended]

101. In § 11.211(c)(2), remove the text “raise in grade” and add, in its place, the text “raise of grade”.

§ 11.301 [Amended]

102. Amend § 11.301 as follows:

a. In paragraph (b)(1) remove the text “upgrade” and add, in its place, the text “raise of grade”;

b. Remove paragraph (g); and

c. Redesignate paragraphs (h) through (j) as paragraphs (g) through (i).

§ 11.305 [Amended]

103. In § 11.305(a)(3)(i), remove the word “shiphandling”, and add, in its place, the words “ship handling”.

§ 11.307 [Amended]

104. In § 11.307(a)(3)(i), remove the word “shiphandling”, and add, in its place, the words “ship handling”.

§ 11.309 [Amended]

105. In Table 1 to § 11.309(e), remove the text “A-II/2” in the third column heading and add, in its place, the text “A-II/1”.

§ 11.311 [Amended]

106. Amend § 11.311 as follows:

a. In paragraph (a)(3)(i), remove the word “shiphandling”, and add, in its place, the words “ship handling”; and

b. In Table 1 to § 11.311(d), remove the text “A-II/3” in the third column heading and add, in its place, the text “A-II/2”.

§ 11.313 [Amended]

107. In § 11.313(a)(3)(i), remove the word “shiphandling”, and add, in its place, the words “ship handling”.

§ 11.315 [Amended]

108. In § 11.315, in paragraph (c), remove the text “A-II/3” and add, in its place, the text “A-II/2” and in Table 1 to § 11.315(d), third column heading, remove the text “A-II/3” and add, in its place, the text “A-II/2”.

§ 11.319 [Amended]

109. Amend § 11.319 as follows:

a. In paragraph (c), remove the text “A-II/3” and add, in its place, the text “A-II/1” and in Table 1 to § 11.315(d), third column heading, remove the text “A-II/3” and add, in its place, the text “A-II/1”.

b. In footnote 2 to Table 1 to § 11.319(d), remove the text “(a)(2)” and add, in its place, the text “(a)(3)”; and

c. In footnote 3 to Table 1 to § 11.319(d), remove the text “(a)(3)” and add, in its place, the text “(a)(4)”.

§ 11.331 [Amended]

110. In Table 1 to § 11.331(e), third column heading, remove the text “A-III/2” and add, in its place, the text “A-III/3”.

§ 11.333 [Amended]

111. In Table 1 to § 11.333(d), third column heading, remove the text “A-III/2” and add, in its place, the text “A-III/3”.

§ 11.430 [Amended]

112. In § 11.430(e), remove the text “raise-in-grade” and add, in its place, the text “raise of grade”.

§ 11.464 [Amended]

113. In § 11.464(g)(1), remove the text “(f)”, and add, in its place, the text “(e)”.

§ 11.465 [Amended]

114. In § 11.465(a), second sentence, remove the text “upgrade it” and add, in its place, the text “raise of grade”.

§ 11.480 [Amended]

115. In § 11.480(b)(2), remove the word “Intercoastal” and add, in its place, the word “Intracoastal”.

§ 11.603 [Amended]

116. In § 11.603, remove the text “first or second class”; and after the text “radiotelegraph operator license”, add the text ” (T)”.

§ 11.1105 [Amended]

117. In § 11.1105(d), remove the text “11.301(h)” and add, in its place, the text “10.107”.

PART 12—REQUIREMENTS FOR RATING ENDORSEMENTS

118. The authority citation for part 12 continues to read as follows:

Authority: 31 U.S.C. 9701; 46 U.S.C. 2101, 2103, 2110, 7301, 7302, 7503, 7505, 7701, and 70105; Department of Homeland Security Delegation No. 0170.1.

§ 12.601 [Amended]

119. Amend § 12.601 by removing paragraph (c).

§ 12.603 [Amended]

120. Amend § 12.603 as follows:

a. Remove paragraph (b);

b. Redesignate paragraphs (c) through (e) as paragraphs (b) through (d), respectively;

c. In newly redesignated paragraph (d) introductory text, remove the text “paragraphs (b) and (c)” and add, in its place, the text “paragraph (b)”; and

d. Revise the heading of Table 1 to § 12.603(e) to read “Table 1 to § 12.603(d)”.

§ 12.607 [Amended]

121. Amend § 12.607 as follows:

a. Remove paragraph (b);

b. Redesignate paragraphs (c) through (e) as paragraphs (b) through (d), respectively;

c. In newly redesignated paragraph (d), remove the text “paragraphs (b) and (c)” and add, in its place, the text “paragraph (b)”; and

d. Revise the heading of Table 1 to § 12.607(e) to read “Table 1 to § 12.607(d)”.

§ 12.613 [Amended]

122. In § 12.613(a)(3), remove the text “§ 12.601(c)” and add, in its place, the text “§ 12.602”.

PART 15—MANNING REQUIREMENTS

123. The authority citation for part 15 continues to read as follows:

Authority: 46 U.S.C. 2101, 2103, 3306, 3703, 8101, 8102, 8103, 8104, 8105, 8301, 8304, 8502, 8503, 8701, 8702, 8901, 8902, 8903, 8904, 8905(b), 8906 and 9102; sec. 617, Pub. L. 111-281, 124 Stat. 2905; and Department of Homeland Security Delegation No. 0170.1.

§ 15.530 [Amended]

124. In § 15.530(b)(4)(iv), after the text “subpart”, remove the text “J” and add, in its place, the text “I”.

125. Amend § 15.860 by revising paragraphs (b)(3), (c)(1) and (2), (d)(1) and (2), (e)(1) and (2), (f), (g), and (h) introductory text and (h)(1) to read as follows:

§ 15.860 Tankerman.

* * * * *

(b) * * *

(3) At least two tankerman-engineers must be carried.

(c) * * *

(1) At least two tankerman-PICs or restricted tankerman-PICs must be carried; and

(2) At least two tankerman-engineers must be carried, unless only one engineer is required, in which case at least one tankerman-engineer must be carried.

(d) * * *

(1) One or two, at least one tankerman-PIC or restricted tankerman-PIC must be carried; or

(2) More than two, at least two tankerman-PICs or restricted tankerman-PICs must be carried.

(e) * * *

(1) One or two, at least one tankerman-PIC, restricted tankerman-PIC, tankerman-PIC (barge), or restricted tankerman-PIC (barge) must be carried; or

(2) More than two, at least two tankerman-PICs, restricted tankerman-PICs, tankerman-PICs (barge), or restricted tankerman-PICs (barge) must be carried.

(f) The following personnel aboard each tankship certified for voyages beyond the boundary line, as described in part 7 of this chapter, must hold valid MMDs or MMCs, endorsed as follows:

(1) The master and chief mate must each hold a tankerman-PIC or restricted tankerman-PIC endorsement.

(2) The chief, first assistant, and cargo engineers must each hold a tankerman-engineer or tankerman-PIC endorsement.

(3) Each credentialed officer acting as the PIC of a transfer of liquid cargo in bulk must hold a tankerman-PIC or restricted tankerman-PIC endorsement.

(4) Each officer or crewmember who is assigned by the PIC duties and responsibilities related to the cargo or cargo-handling equipment during a transfer of liquid cargo in bulk, but is not directly supervised by the PIC, must hold a tankerman-assistant endorsement.

(g) The endorsements required by this section must be for the classification of the liquid cargo in bulk or of the cargo residue being carried.

(h) All individuals serving on tankships certified for voyages beyond the boundary line, as described in part 7 of this chapter, must hold an appropriate STCW endorsement, as follows:

(1) For tankerman-PIC, an STCW endorsement as Advanced Oil Tanker Cargo Operations, Advanced Chemical Tanker Cargo Operations, or Advanced Liquefied Gas Tanker Cargo Operations, as appropriate.

* * * * *

§ 15.1101 [Amended]

126. In § 15.1101(a)(2) introductory text, after the text “domestic”, add the text “, near coastal”.

PART 16—CHEMICAL TESTING

127. The authority citation for part 16 continues to read as follows:

Authority: 46 U.S.C. 2103, 3306, 7101, 7301, and 7701; Department of Homeland Security Delegation No. 0170.1.

§ 16.220 [Amended]

128. In § 16.220(a), remove the text “§ 10.227(e)” and add, in its place, the text “§ 10.227(g)”.

PART 26—OPERATIONS

129. Revise the authority citation for part 26 to read as follows:

Authority: 46 U.S.C. 3306, 4105, 4106, 6101, 8105; Pub. L. 103-206, 107 Stat. 2439; E.O. 12234, 45 FR 58801, 3 CFR, 1980 Comp., p. 277; Department of Homeland Security Delegation No. 0170.1.

PART 28—REQUIREMENTS FOR COMMERCIAL FISHING INDUSTRY VESSELS

130. The authority citation for part 28 continues to read as follows:

Authority: 46 U.S.C. 3316, 4502, 4505, 4506, 6104, 8103, 10603; Department of Homeland Security Delegation No. 0170.1.

§ 28.210 [Amended]

131. In § 28.210(b)(1)(ii), remove the text “§ 10.205(h)(1)(ii)” and add, in its place, the text “§ 11.201(i)”.

PART 162—ENGINEERING EQUIPMENT

132. The authority citation for part 162 continues to read as follows:

Authority: 33 U.S.C. 1321(j), 1903; 46 U.S.C. 3306, 3703, 4104, 4302; E.O. 12234, 45 FR 58801, 3 CFR, 1980 Comp., p. 277; E.O. 12777, 56 FR 54757, 3 CFR, 1991 Comp., p. 351; Department of Homeland Security Delegation No. 0170.1.

Subpart 162.060—Ballast Water Management Systems

§ 162.060-14 [Amended]

133. In § 162.060-14(b), after the text “Washington, DC 20593-7430”, add the text “, or by email to msc@uscg.mil”.

§ 162.060-42 [Amended]

134. In § 162.060-42(a)(3), after the text “Washington, DC 20593-7430”, add the text “, or by email to msc@uscg.mil”.

Dated: June 11, 2019.
M.W. Mumbach,
Acting Chief, Office of Regulations and Administrative Law, U.S. Coast Guard.

[FR Doc. 2019-12561 Filed 6-27-19; 8:45 am]

BILLING CODE 9110-04-P